ENVIRONMENTAL PROTECTION AGENCY

[Regional Docket Nos. V-2004-3, -4, IL226-1, FRL-7942-2]

Clean Air Act Operating Permit Program; Petitions for Objection to State Operating Permits for Midwest Generation Romeoville and Joliet Stations

AGENCY: Environmental Protection Agency (EPA).

ACTION: Notice of final orders on petitions to object to two State operating permits.

SUMMARY: This document announces that the EPA Administrator has responded to two citizen petitions asking EPA to object to operating permits proposed by the Illinois Environmental Protection Agency (IEPA) to two facilities. Specifically, the Administrator has partially granted and partially denied each of the petitions submitted by the Chicago Legal Clinic on behalf of Citizens Against Ruining the Environment to object to the proposed operating permits for the Midwest Generation Romeoville and Joliet stations.

Pursuant to section 505(b)(2) of the Clean Air Act (Act), Petitioner may seek judicial review in the United States Court of Appeals for the appropriate circuit of those portions of the petitions which EPA denied. Any petition for review shall be filed within 60 days from the date this notice appears in the Federal Register, pursuant to section 307 of the Act.

ADDRESSES: You may review copies of the final orders, the petitions, and other supporting information at the EPA Region 5 Office, 77 West Jackson Boulevard, Chicago, Illinois 60604. If you wish to examine these documents, you should make an appointment at least 24 hours before visiting day. Additionally, the final orders for the Midwest Generation Romeoville and Joliet stations are available electronically at: http://www.epa.gov/region07/programs/artd/air/title5/petitiondb/petitiondb2004.htm.

FOR FURTHER INFORMATION CONTACT: Pamela Blakley, Chief, Air Permitting Section, Air Programs Branch, Air and Radiation Division, EPA, Region 5, 77 West Jackson Boulevard, Chicago, Illinois 60604, telephone (312) 886-4447.

SUPPLEMENTARY INFORMATION: The Act affords EPA a 45-day period to review, and object to as appropriate, operating permits proposed by State permitting authorities. Section 505(b)(2) of the Act authorizes any person to petition the EPA Administrator within 60 days after the expiration of the EPA review period to object to State operating permits if EPA has not done so. Petitions must be based only on objections to the permit that were raised with reasonable specificity during the public comment period provided by the State, unless the petitioner demonstrates that it was impracticable to raise these issues during the comment period or the grounds for the issues arose after this period.

On January 26, 2004, the EPA received from the Chicago Legal Clinic petitions requesting that EPA object to the proposed title V operating permits for the Midwest Generation Romeoville and Joliet stations. The petitions raise issues regarding the permit application, the permit issuance process, and the permits themselves. Chicago Legal Clinic asserts that the permits: (1) Fail to comply with State and Federal requirements; (2) allow excess emissions during startup and malfunction, contrary to U.S. EPA policy; (3) contain conditions that are not practically enforceable; (4) allow the plant to continue to operate in a manner which causes severe health impacts on the surrounding communities; (5) contain numerous typographical errors, mistakes, and omissions; (6) are legally inadequate because they do not impose enforceable schedules to remedy non-compliance; and (7) fail to address mercury and other hazardous air pollutants.

On June 24, 2005, the Administrator issued orders partially granting and partially denying the petitions. The orders explain the reasons behind EPA's conclusion that the IEPA must reopen the permits to: (1) Address Petitioner's significant comments; (2) include periodic monitoring in compliance with 40 CFR 70.6(a)(3)(i)(B); (3) remove the note stating that compliance with the carbon monoxide limit is inherent; (4) explain in the statement of basis how it determined in advance that the permittee had met the requirements of the Illinois State Implementation Plan (SIP) or to specify in the permit that continued operation during malfunction or breakdown will be authorized on a case-by-case basis if the source meets the SIP criteria; (5) remove language which is not required by the underlying applicable requirement or explain in the permit or statement of basis how this language implements the underlying applicable requirement; (6) remove “established startup procedures,” include the startup procedures in the permit, or include minimum elements of the startup procedures that would “affirmatively demonstrate that all reasonable efforts have been made to minimize startup emissions, duration of individual startups and frequency of startups;” (7) require the owner or operator of the sources to report to the agency “immediately” or explain how the phrase “as soon as possible” meets the requirements of the SIP; (8) remove “reasonably” and “reasonable” from relevant permit terms or define or provide criteria to determine “reasonably” and “reasonable” that meet the requirements of the SIP; (9) remove the term “reasonable” from the relevant permit conditions in accordance with the language in part 70, section 504 of the Clean Air Act or section 39.5 of the Illinois Environmental Protection Act; (10) remove the ability to waive the testing requirements or explain how such a waiver would meet the requirements of part 70; (11) define “extraordinary circumstances” in a manner consistent with the requirements of the SIP or remove the language from the permit; (12) remove “summary of compliance” from the permit or clarify the term such that the reader understands what a “summary of compliance” must contain and how the summary relates to the control measures; (13) include appropriate prompt reporting requirements or explain how and where the permit meets the prompt reporting requirements of part 70; and (14) insert “which” after “any new process emission unit” to be consistent with the SIP. The orders also explain the reasons for denying Chicago Legal Clinic's remaining claims.

Dated: July 6, 2005.
Norman Niedergang,
Acting Regional Administrator, Region 5.

[FR Doc. 05-14405 Filed 7-20-05; 8:45 am]

BILLING CODE 6560-50-P